DEPARTMENT OF DEFENSE

Office of the Secretary

Privacy Act of 1974; System of Records

AGENCY: Office of the Secretary, DoD.

ACTION: Notice to Alter a System of Records.

SUMMARY: The Office of the Secretary of Defense is altering a system of records to its existing inventory of record systems subject to the Privacy Act of 1974 (5 U.S.C. 552a), as amended.

DATES: The changes will be effective on March 24, 2006, unless comments are received that would result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted (date) to the House Committee on Government Reform, the Senate Committee on Homeland Security and Governmental Affairs, and the Office of Management and Budget (OMB) pursuant to paragraph 4c of Appendix I to OMB Circular No. A-310, ‘Federal Agency Responsibilities for Maintaining Records About Individuals,' dated February 8, 1996 (February 20, 1996, 61 FR 6427).

Dated: February 14, 2006.
L.M. Bynum,
OSD Federal Register Liaison Officer, Department of Defense.

DWHS P43

System name:

Emergency Personnel Locator Records (February 22, 1993, 58 FR 10227).

CHANGES:

* * * * *

System Location:

Add the following addresses to entry: “Washington Headquarters Services, Information Technology Management Directorate, Pentagon Room 1C1065A, Washington, DC 20301-1155.

Washington Headquarters Services, Information Technology Management Directorate, Crystal Gateway 3, Suite 1204, 1215 South Clark Street, Arlington, VA 22202-4387.

AT&T Internet Date Center (IDC), 480 Arsenal Street, Watertown, MA 02472-2805.

Qwest, 350 East Cermak Road, Suite 700, Chicago, IL 60616-1568.”

* * * * *

Authority for maintenance of the system:

Delete entry and replace with: “5 U.S.C. 301, Departmental Regulation; 10 U.S.C Chapter 2, Secretary of Defense; Executive Order 12656, Assignment of Emergency Preparedness Responsibilities, November 18, 1988, as amended; Presidential Decision Directive 67, Enduring Constitutional Government and Continuity of Government Operations, October 21, 1998; Federal Preparedness Circular 65, Federal Executive Branch Continuity of Operations, June 15, 2004; Deputy Secretary of Defense Memorandum, Implementation of National Security Policy Direction of Enduring Constitutional Government and Continuity of Operations, February 17, 1999; DoD Directive 3020.26, Defense Continuity Program, September 8, 2004; DoD Directive 3020.36, Assignment of National Security Emergency Preparedness (NSEP) Responsibilities to DoD Components, November 2, 1988; and DoD Directive 5110.4, Washington Headquarters Services, October 19, 2001.”

* * * * *

Safeguards:

Add the following sentence: “Access to personal information is further restricted by lock and key in secure containers, and in a computer system with intrusion safeguards.”

Retention and disposal:

Delete entry and replace with: “Records are retained until information is no longer current and then destroyed. Obsolete paper information is destroyed by tearing into pieces, shredding, pulping, macerating, or burning. Obsolete computer records are erased or overwritten.”

Systems manager(s) and address:

Add the following addresses: “Program Manager, Washington Headquarters Services, Information Technology Management Directorate, Crystal Gateway #1, Suite 940, 1235 South Clark Street, Arlington, VA 22202-3283

Program Manager, Washington Headquarters Services, Information Technology Management Directorate, Crystal Gateway #3, Suite 1204, 1215 South Clark Street, Arlington, VA 22202-4387.”

Notification procedure:

Delete first paragraph and replace with: “Individuals seeking to determine whether information about themselves is contained in this system should address written inquires to the Administration & Program Support Directorate (APSD), Attn: COOP Program Manager, Crystal Gateway #1, Suite 940, 1235 South Clark Street, Arlington, VA 22202-3283.”

Record access procedures:

Delete first paragraph and replace with: “Individuals seeking access to records about themselves should address written inquires to the Administration & Program Support Directorate (APSD), Attn: COOP Program Manager, Crystal Gateway #1, Suite 940, 1235 South Clark Street, Arlington, VA 22202-3283.”

* * * * *

DWHS P43

System name:

Emergency Personnel Locator Records.

System location(s):

Segments are maintained within the Office of the Secretary of Defense (OSD), The Joint Staff, and all other activities deriving administrative support from Washington Headquarters Services.

Washington Headquarters Services, Information Technology Management Directorate, Pentagon Room 1C1065A, Washington, DC 20301-1155.

Washington Headquarters Services, Information Technology Management Directorate, Crystal Gateway 3, Suite 1204, 1215 South Clark Street, Arlington, VA 22202-4387.

AT&T Internet Data Center (IDC), 480 Arsenal Street, Watertown, MA 02472-2805.

Qwest, 350 East Cermak Road, Suite 700. Chicago, IL 60616-1568.

Categories of individuals covered by the system:

Civilian employees and military personnel, and in some instances, their dependents, consultants, contractors, both in and out of government, with whom the Office of the Secretary of Defense, The Joint Staff, and all other activities deriving administrative support from Washington Headquarters Services (WHS) conduct official business. Inclusion is at the discretion of the maintaining office.

Categories of records in the system:

Individual's Social Security Number and/or name, organizational address, home address or unit of assignment, work and home telephone numbers and related information. Emergency personnel rosters, contact listing files, organizational telephone directories, and listings of office personnel.

Authority for maintenance of the system:

5 U.S.C. 301, Departmental Regulation; 10 U.S.C Chapter 2, Secretary of Defense; Executive Order 12656, Assignment of Emergency Preparedness Responsibilities, November 18, 1988, as amended; Presidential Decision Directive 67, Enduring Constitutional Government and Continuity of Government Operations, October 21, 1998; Federal Preparedness Circular 65, Federal Executive Branch Continuity of Operations, June 15, 2004; Deputy Secretary of Defense Memorandum, Implementation of National Security Policy Direction of Enduring Constitutional Government and Continuity of Operations, February 17, 1999; DoD Directive 3020.26, Defense Continuity Program, September 8, 2004; DoD Directive 3020.36, Assignment of National Security Emergency Preparedness (NSEP) Responsibilities to DoD Components, November 2, 1988; and DoD Directive 5110.4, Washington Headquarters Services, October 19, 2001.

Purpose(s):

Records support agency requirements for emergency notification of personnel; establishment of locator listings, and all other official management functions where personnel and organizational point of contact information is required.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of OSD's compilation of systems of records notices apply to this system.

Policies and practices for storing, retrieving, accessing, retaining, and disposing of records in the system:

Storage:

Paper records are maintained in file folders, index cards, Rolodex-type files, loose-leaf and bound notebooks. Computer files are maintained on magnetic tape, diskette, or other machine-readable media.

Retrievability:

Files are retrieved by Social Security Number and/or name of employee or individual.

Safeguards:

Facilities where the systems are maintained are locked when not occupied. Paper records are kept in filing cabinets and other storage places which are locked when office is not occupied. Electronic records are on computer terminals in supervised areas using a system with software access control safeguards. Only persons on a need-to-know basis and trained in the handling of information protected by the Privacy Act have access to the system. Access to personal information is further restricted by lock and key in secure containers, and in a computer system with intrusion safeguards.

Retention and disposal:

Records are retained until information is no longer current and then destroyed. Obsolete paper information is destroyed by tearing into pieces, shredding, pulping, macerating, or burning. Obsolete computer records are erased or overwritten.

System manager(s) and address:

Office of the Secretary of Defense Privacy Act Officer, OSD Records Management and Privacy Act Branch, Washington Headquarters Services, 1155 Defense Pentagon, Washington, DC 20301-1155.

Program Manager, Washington Headquarters Services, Information Technology Management Directorate, Crystal Gateway #1, Suite 940, 1235 South Clark Street, Arlington, VA 22202-3283.

Program Manager, Washington Headquarters Services, Information Technology Management Directorate, Crystal Gateway #3, Suite 1204, 1215 South Clark Street, Arlington, VA 22202-4387.

Notification procedure:

Individuals seeking to determine whether information about themselves is contained in this system should address written inquiries to the Administration & Program Support Directorate (APSD), Attn: COOP Program Manager, Crystal Gateway #1, Suite 940, 1235 South Clark Street, Arlington, VA 22202-3283.

The individual should make reference to the office where he/she is/was assigned or affiliated and include address and telephone number applicable to the period during which the record was maintained. Social Security number should be included in the inquiry for positive identification.

Record access procedures:

Individuals seeking access to records about themselves should address written inquiries to the Administration & Program Support Directorate (APSD), Attn: COOP Program Manager, Crystal Gateway #1, Suite 940, 1235 South Clark Street, Arlington, VA 22202-3283.

The individual should make reference to the office where he/she is/was assigned or affiliated and include address and telephone number applicable to the period during which the record was maintained. Social Security Number should be included in the inquiry for positive identification.

Contesting record procedures:

The OSD rules for accessing records, for contesting contents and appealing initial agency determinations are published in OSD Administrative Instruction 81; 32 CFR part 311; or may be obtained from the system manager.

Record source categories:

Information is obtained from the subject individual, and official personnel office documents.

Exemptions claimed for the system:

None.

[FR Doc. 06-1576 Filed 2-21-06; 8:45 am]

BILLING CODE 5001-06-M